DEPARTMENT OF COMMERCE

National Oceanic and Atmospheric Administration

[RTID 0648-XD110]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day in-person meeting of its Standing, Reef Fish, Socioeconomic, and Ecosystem Scientific and Statistical Committees (SSC).

DATES: The meeting will be held Wednesday, July 19 through Thursday, July 20, 2023. The meeting will be held from 9 a.m. to 4:30 p.m., EDT on Wednesday, and from 8:30 a.m. to 4:30 p.m., EDT on Thursday.

ADDRESSES: The meeting will take place at the Gulf Council office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Wednesday, July 19, 2023; 9 a.m.-4:30 p.m., EDT

The meeting will begin with Introductions and Adoption of Agenda, Approval of Verbatim Minutes and Meeting Summary from the May 2-4, 2023, meeting, and a review of the Scope of Work. The Committees will select an SSC Representative for the August 14-17, 2023, Gulf Council meeting in Austin, TX.

Following, the Committees will review SEDAR 81: Gulf of Mexico Migratory Group Spanish Mackerel Operational Assessment; presentation and background documentation and references will be provided to support SSC discussion. The Committees will receive an update on Marine Recreational Information Program (MRIP) Cumulative Estimate Reporting and discuss Technical Guidance for National Standard 1 Reference Points and Status Determinations, with presentations, background documentation and references for SSC discussion. Public comment will be heard at the end of the day.

Thursday, July 20, 2023; 8:30 a.m.-4:30 p.m., EDT

The Committees will review and discuss an Evaluation of Interim Analysis Process, Part 2, conclude discussions for SEDAR 81 Evaluation and Projections, and review the Gulf of Mexico Migratory Group King Mackerel Interim Analysis; including presentations and background materials for SSC discussion.

The Committees will receive public comment, if any before addressing any items under Other Business.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: June 23, 2023.
Rey Israel Marquez,
Acting Deputy Director, Office of Sustainable Fisheries, National Marine Fisheries Service.

[FR Doc. 2023-13771 Filed 6-27-23; 8:45 am]

BILLING CODE 3510-22-P